NATIONAL ARCHIVES AND RECORDS ADMINISTRATION

[NARA-2022-018]

State, Local, Tribal, and Private Sector Policy Advisory Committee (SLTPS-PAC); Meeting

AGENCY: Information Security Oversight Office (ISOO), National Archives and Records Administration (NARA).

ACTION: Notice of federal advisory committee meeting.

SUMMARY: We are announcing an upcoming meeting of the State, Local, Tribal, and Private Sector Policy Advisory Committee (SLTPS-PAC) in accordance with the Federal Advisory Committee Act and implementing regulations.

DATES: The meeting will be on January 26, 2022, from 10:00 a.m. to 12:00 p.m. ET.

ADDRESSES: This meeting will be a virtual meeting. We will send instructions on how to access it to those who register according to the instructions below.

FOR FURTHER INFORMATION CONTACT: Heather Harris Pagán, ISOO Senior Program Analyst, by email at heather.harrispagan@nara.gov or by telephone at 202.357.5351. Contact ISOO at ISOO@nara.gov.

SUPPLEMENTARY INFORMATION: This virtual meeting is open to the public in accordance with the Federal Advisory Committee Act (5 U.S.C. app 2) and implementing regulations at 41 CFR 101-6. The Committee will discuss matters relating to the classified national security information program for state, local, tribal, and private sector entities.

Procedures: Please submit the name, email address, and telephone number of people planning to attend to Heather Harris Pagán at ISOO (contact information above) no later than 9:00 a.m. Wednesday, January 26, 2022. We will provide meeting access information to those who register.

Tasha Ford,
Committee Management Officer.

[FR Doc. 2021-27954 Filed 12-23-21; 8:45 am]

BILLING CODE 7515-01-P